DEPARTMENT OF ENERGY

Federal Energy Regulatory Commission

Notice of Effectiveness of Exempt Wholesale Generator Status

| Docket Nos.
CPV Maple Hill Solar, LLC | EG22-37-000
BT Noble Solar, LLC | EG22-38-000
High Lonesome Storage, LLC | EG22-39-000
Roadrunner Storage, LLC | EG22-40-000
Snyder ESS Assets, LLC | EG22-41-000
Westover ESS Assets, LLC | EG22-42-000
Sweetwater ESS Assets, LLC | EG22-43-000
Swoose II LLC | EG22-44-000
Jicarilla Solar 2 LLC | EG22-45-000
Brazoria West Solar Project, LLC | EG22-46-000
Geysers Power Company, LLC | EG22-47-000

Take notice that during the month of March 2022, the status of the above-captioned entities as Exempt Wholesale Generators became effective by operation of the Commission's regulations. 18 CFR 366.7(a) (2021).

Dated: April 14, 2022.
Debbie-Anne A. Reese,
Deputy Secretary.

[FR Doc. 2022-08465 Filed 4-19-22; 8:45 am]

BILLING CODE 6717-01-P